DEPARTMENT OF THE INTERIOR

National Park Service

[NPS-WASO-NAGPRA-18953; PPWOCRADN0-PCU00RP14.R50000]

Notice of Inventory Completion: Center for Archaeological Studies, Texas State University, San Marcos, TX

AGENCY: National Park Service, Interior.

ACTION: Notice.

SUMMARY: The Center for Archaeological Studies, Texas State University (Texas State), has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to Texas State. If no additional requestors come forward, transfer of control of the human remains to the non-Federally recognized Indian group stated in this notice may proceed.

DATES: Representatives of any Indian tribe or Native Hawaiian organization not identified in this notice that wish to request transfer of control of these human remains should submit a written request with information in support of the request to Texas State at the address in this notice by September 30, 2015.

ADDRESSES: Todd M. Ahlman, Center for Archaeological Studies, Texas State University, 601 University Drive, San Marcos, TX 78666, telephone (512) 245-2724, email t_a57@txstate.edu.

SUPPLEMENTARY INFORMATION: Notice is here given in accordance with the Native American Graves Protection and Repatriation Act (NAGPRA), 25 U.S.C. 3003, of the completion of an inventory of human remains under the control of the Center for Archaeological Studies, Texas State University, San Marcos, TX. The human remains were removed from site 41HY160, San Marcos, Hays County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Texas State professional staff in consultation with representatives of the Alabama-Coushatta Tribe of Texas (previously listed as the Alabama-Coushatta Tribes of Texas); Delaware Nation, Oklahoma; Kickapoo Tribe of Oklahoma; The Choctaw Nation of Oklahoma; United Keetoowah Band of Cherokee Indians in Oklahoma; and Ysleta del Sur Pueblo (previously listed as the Ysleta Del Sur Pueblo of Texas). The following tribes were also invited to participate in consultations, but there is no record of their having responded: Absentee-Shawnee Tribe of Indians of Oklahoma; Alabama-Quassarte Tribal Town; Apache Tribe of Oklahoma; Caddo Nation of Oklahoma; Cherokee Nation; Comanche Nation, Oklahoma; Iowa Tribe of Oklahoma; Jicarilla Apache Nation, New Mexico; Kialegee Tribal Town; Kickapoo Traditional Tribe of Texas; Mescalero Apache Tribe of the Mescalero Reservation, New Mexico; Poarch Band of Creeks (previously listed as the Poarch Band of Creek Indians of Alabama); The Muscogee (Creek) Nation; The Osage Nation (previously listed as the Osage Tribe); The Quapaw Tribe of Indians; The Seminole Nation of Oklahoma; Thlopthlocco Tribal Town; Tonkawa Tribe of Indians of Oklahoma; Tunica-Biloxi Indian Tribe; and the Wichita and Affiliated Tribes (Wichita, Keechi, Waco & Tawakonie), Oklahoma (hereafter tribes listed in this section are referred to as “The Consulted and Invited Tribes”). Texas State professional staff also consulted with the Miakan-Garza Band of the Coahuiltecan people, a non-federally recognized Indian group.

History and Description of the Remains

In December 2011, human remains representing, at minimum, one individual were removed from site 40HY160 in Hays County, TX, following their inadvertent discovery during a construction project on the campus grounds of Texas State. A prehistoric date for the site is based on the artifacts excavated and removed from the site. At the request of Texas State University's Center for Archaeological Studies, osteological analysis of the remains was performed by Drs. Kate Spradley and Michelle Hamilton of the Department of Anthropology. Additional osteological cleaning, sorting, and reconstruction assistance was provided by four graduate students (C. Figueroa-Soto, M. McClain, L. Springs, and C. Tegtmeyer). The human remains were determined to be those of a Native American adult male of prehistoric date. No known individuals were identified. No associated funerary objects are present.

Pursuant to 43 CFR 10.16, the Secretary of the Interior may make a recommendation for a transfer of control of culturally unidentifiable human remains. In January 2015, Texas State requested that the Secretary, through the Native American Graves Protection and Repatriation Review Committee, recommend the proposed transfer of control of the culturally unidentifiable Native American human remains in this notice to the Miakan-Garza Band of the Coahuiltecan people, a non-federally recognized Indian group. The Review Committee, acting pursuant to its responsibility under 25 U.S.C. 3006(c)(5), considered the request at its March 2015 meeting and recommended to the Secretary that the proposed transfer of control proceed. A June 10, 2015, letter on behalf of the Secretary of Interior from the National Park Service Associate Director, Cultural Resources, Partnerships, and Science transmitted the Secretary's independent review and concurrence with the Review Committee that:

• Texas State consulted with the appropriate Indian tribes or Native Hawaiian organizations;

• Texas State determined that a relationship of shared group identity cannot be reasonably traced between the human remains and any present-day Indian tribe, based on consultation;

• Texas State determined that the human remains did not originate from either the tribal land or the aboriginal land of any Indian tribe,

• none of the Indian tribes or Native Hawaiian organizations requested transfer of control of the human remains;

• none of the Indian tribes or Native Hawaiian organizations has identified any individual or Indian tribe affiliated with the human remains through lineal descent, culture, or geography; and

• Texas State may proceed with the agreed upon transfer of control of the culturally unidentifiable human remains to the Miakan-Garza Band of the Coahuiltecan people, a non-federally recognized Indian group.

Transfer of control is contingent on the publication of a Notice of Inventory Completion in the Federal Register. This notice fulfills that requirement.

Determinations Made by the Center for Archaeological Studies, Texas State University

Officials of the Center for Archaeological Studies, Texas State University, have determined that:

• Pursuant to 25 U.S.C. 3001(9), the human remains described in this notice are Native American based on an osteological analysis and prehistoric artifacts not associated with the human remains.

• Pursuant to 25 U.S.C. 3001(9), the human remains described in this notice represent the physical remains of one individual of Native American ancestry.

• Pursuant to 25 U.S.C. 3001(2), a relationship of shared group identity cannot be reasonably traced between the Native American human remains and any present-day Indian tribe.

• Pursuant to 43 CFR 10.16, the disposition of the human remains will be to the Miakan-Garza Band of the Coahuiltecan people, a non-federally recognized Indian group.

Additional Requestors and Disposition

Representatives of any Indian tribe or Native Hawaiian organization not identified in this notice that wish to request transfer of control of these human remains should submit a written request with information in support of the request to Todd M. Ahlman, Center for Archaeological Studies, Texas State University, 601 University Drive, San Marcos, TX 78666, telephone (512) 245-2724, email t_a57@txstate.edu, by September 30, 2015. After that date, if no additional requestors have come forward, transfer of control of the human remains to the Miakan-Garza Band of the Coahuiltecan people, a non-federally recognized Indian group, may proceed.

The Center for Archaeological Studies is responsible for notifying The Consulted and Invited Tribes that this notice has been published.

Dated: July 31, 2015.
Melanie O'Brien,
Manager, National NAGPRA Program.

[FR Doc. 2015-21488 Filed 8-28-15; 8:45 am]

BILLING CODE 4312-50-P